DEPARTMENT OF COMMERCE

Foreign-Trade Zones Board

[Docket T-2-2009]

Foreign-Trade Zone 33—Pittsburgh, PA; Application for Temporary/Interim Manufacturing Authority; DNP IMS America Corporation (Thermal Transfer Ribbon Printer Rolls); Mount Pleasant, PA

An application has been submitted to the Executive Secretary of the Foreign-Trade Zones Board (the Board) by the Regional Industrial Development Corporation, grantee of FTZ 33, requesting temporary/interim manufacturing (T/IM) authority within Subzone 33E at the DNP IMS America Corporation (DNP) facility, located in Mount Pleasant, Pennsylvania. The application was filed on December 10, 2009.

The DNP facility (123 employees, 3.12 acres, 135,989 enclosed square feet, 336 million square meters capacity) is located at 1001 Technology Drive, Mount Pleasant, Pennsylvania (Subzone 33E). Under T/IM procedures, DNP has requested authority to produce monochrome thermal transfer ribbon (TTR) printer rolls (HTSUS 8443.99, duty-free), using foreign-sourced master rolls of TTR (HTSUS 3702.39, duty rate, 3.7%), representing 71-87% of the value of the finished product. T/IM authority could be granted for a period of up to two years.

FTZ procedures could exempt DNP from customs duty payments on the foreign TTR master rolls used in export production. The company anticipates that some 10 percent of the plant's shipments will be exported. On its domestic sales, DNP would be able to choose the duty rate during customs entry procedures that apply to the finished TTR printer rolls (duty-free) for the foreign TTR master rolls. FTZ procedures would further allow DNP to realize logistical benefits through the use of certain customs procedures and duty savings on scrap and waste for the new activity.

In accordance with the Board's regulations, Diane Finver of the FTZ Staff is designated examiner to evaluate and analyze the facts and information presented in the application and case record and to report findings and recommendations pursuant to Board Orders 1347 and 1480.

Public comment is invited from interested parties. Submissions (original and 3 copies) shall be addressed to the Board's Executive Secretary at the following address: Office of the Executive Secretary, Foreign-Trade Zones Board, U.S. Department of Commerce, Room 2111, 1401 Constitution Ave. NW., Washington, DC 20230. The closing period for their receipt is January 15, 2010.

DNP has also submitted a request for permanent FTZ manufacturing authority for the same product and component. It should be noted that the request for permanent authority would be docketed separately and would be processed as a distinct proceeding. Any party wishing to submit comments for consideration regarding the request for permanent authority would need to submit such comments pursuant to the separate notice that would be published for that request.

A copy of the application will be available for public inspection at the Office of the Foreign-Trade Zones Board's Executive Secretary at the address listed above, and in the “Reading Room” section of the Board's Web site, which is accessible via http://www.trade.gov/ftz. For further information, contact Diane Finver at Diane.Finver@trade.gov (202) 482-1367.

Dated: December 11, 2009.
Andrew McGilvray,
Executive Secretary.

[FR Doc. E9-29905 Filed 12-15-09; 8:45 am]

BILLING CODE 3510-DS-P